DEPARTMENT OF AGRICULTURE

Forest Service

White River National Forest; Eagle County, CO; Withdrawal of Notice of Intent To Prepare an Environmental Impact Statement; Berlaimont Estates Access Route EIS

AGENCY: Forest Service, USDA.

ACTION: Notice of withdrawal.

SUMMARY: The United States Department of Agriculture, Forest Service, White River National Forest, is withdrawing the August 18, 2016, Federal Register notice (81 FR 55173) which announced their intent to prepare an Environmental Impact Statement in accordance with the National Environmental Policy Act, 42 U.S.C. 4321 (NEPA), to analyze Berlaimont Estates LLC (Berlaimont) application for an easement to improve access to their 680-acre private inholding within the White River National Forest to the north of Interstate 70 in the vicinity of Edwards, Colorado.

After further review, the Forest has found that elements of this proposal may have been in conflict with the White River National Forest Land and Resource Management Plan—2002 Revision.

DATES: This withdrawal of the Notice of Intent is effective on the date of this publication in the Federal Register.

ADDRESSES: Scott Fitzwilliams, Forest Supervisor, c/o Matt Klein, Realty Specialist, White River National Forest, P.O. Box 190, Minturn, CO 81645.

FOR FURTHER INFORMATION CONTACT: Matt Klein, Realty Specialist, Eagle/Holy Cross Ranger District, 24747 U.S. Hwy. 24, P.O. Box 190, Minturn, Colorado 81645. Mr. Klein can be reached by phone at (970) 827-5182 or by email at matthewklein@fs.fed.us.

Individuals who use telecommunication devices for the deaf (TDD) may call the Federal Information Relay Service (FIRS) at 1-800-877-8339 between 8 a.m. and 8 p.m., Eastern Time, Monday through Friday.

SUPPLEMENTARY INFORMATION:

Scoping Process

This Notice of Withdrawal cancels the scoping process initiated on August 18, 2016. The Forest Service is reevaluating how to proceed with this proposal.

The public open house meeting scheduled on Wednesday, September 7th, 2016 from 6:00 p.m. to 9:00 p.m. has been CANCELED.

Dated: September 2, 2016.
Scott Fitzwilliams,
Forest Supervisor.

[FR Doc. 2016-21714 Filed 9-8-16; 8:45 am]

BILLING CODE 3411-15-P